DEPARTMENT OF THE INTERIOR

Bureau of Land Management

[LLNV952000 L14400000.BJ0000.LXSSF2210000.241A; 13-08807; MO# 4500082763; TAS: 15X1109]

Filing of Plats of Survey; NV

AGENCY: Bureau of Land Management, Interior.

ACTION: Notice.

SUMMARY: The purpose of this notice is to inform the public and interested State and local government officials of the filing of Plats of Survey in Nevada.

DATES: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the BLM Nevada State Office, Reno, Nevada on April 17, 2015.

The plat, in 2 sheets, representing the dependent resurvey of a portion of the north boundary and a portion of the subdivisional lines, the subdivision of section 2 and metes-and-bounds surveys in section 2, Township 4 South, Range 60 East, of the Mount Diablo Meridian, Nevada, under Group No. 914, was accepted April 16, 2015. This survey was executed to meet certain administrative needs of the Bureau of Land Management.

2. The Plat of Survey of the following described lands was officially filed at the Bureau of Land Management (BLM) Nevada State Office, Reno, Nevada on June 4, 2015:

The plat, in 1 sheet, representing the dependent resurvey of a portion of the south boundary and a portion of the subdivisional lines, the subdivision of sections 35 and 36, and a metes-and-bounds survey of the centerline of Nevada State Route 318 through a portion of section 35, Township 3 South, Range 60 East, Mount Diablo Meridian, Nevada, under Group No. 929, was accepted June 2, 2015. This survey was executed to meet certain administrative needs of the Bureau of Land Management.

3. The Plat of Survey of the following described lands was officially filed at the Bureau of Land Management (BLM) Nevada State Office, Reno, Nevada on June 4, 2015:

The plat, in 1 sheet, representing the dependent resurvey of a portion of the east boundary, a portion of the north boundary and a portion of the subdivisional lines, and the subdivision of section 1, Township 4 South, Range 60 East, Mount Diablo Meridian, Nevada, under Group No. 929, was accepted June 2, 2015. This survey was executed to meet certain administrative needs of the Bureau of Land Management.

4. The Plat of Survey of the following described lands was officially filed at the Bureau of Land Management (BLM) Nevada State Office, Reno, Nevada on June 25, 2015:

The plat, in 3 sheets, representing the dependent resurvey of a portion of the south boundary, a portion of the subdivisional lines, and portions of Mineral Survey Nos. 4892 and 4893, and a metes-and-bounds survey in sections 35 and 36, Township 13 North, Range 26 East, Mount Diablo Meridian, Nevada, under Group No. 941, was accepted June 12, 2015. This survey was executed to facilitate the conveyance of certain public land to the municipality of Yerington, Nevada, as authorized by Public Law 113-291.

5. The Plat of Survey of the following described lands was officially filed at the Bureau of Land Management (BLM) Nevada State Office, Reno, Nevada on June 30, 2015:

The plat, in 2 sheets, representing the dependent resurvey of a portion of the north boundary, a portion of the subdivisional lines, and the subdivision of sections 3 and 4, Township 34 North, Range 55 East, Mount Diablo Meridian, Nevada, under Group No. 942, was accepted June 29, 2015. This survey was executed to define and mark boundaries for management of the Te-Moak trust lands transferred by legislation, as authorized by Public Law 113-291.

6. The Plat of Survey of the following described lands was officially filed at the Bureau of Land Management (BLM) Nevada State Office, Reno, Nevada on July 24, 2015:

The plat, in 2 sheets, representing the dependent resurvey of a portion of the east boundary, a portion of the subdivisional lines, and the subdivision of section 25, and certain metes-and-bounds surveys in section 25, Township 34 North, Range 54 East, Mount Diablo Meridian, Nevada, under Group No. 943, was accepted July 22, 2015. This survey was executed to facilitate the conveyance of certain public lands, as authorized by Public Law 113-291.

7. The Plat of Survey of the following described lands was officially filed at the Bureau of Land Management (BLM) Nevada State Office, Reno, Nevada on July 24, 2015:

The plat, in 1 sheet, representing the dependent resurvey of a portion of the east boundary, and a metes-and-bounds survey in section 25, Township 34 North, Range 54 1/2 East, Mount Diablo Meridian, Nevada, under Group No. 943, was accepted July 22, 2015. This survey was executed to facilitate the conveyance of certain public lands, as authorize by Public Law 113-291.

8. The Plat of Survey of the following described lands was officially filed at the Bureau of Land Management (BLM) Nevada State Office, Reno, Nevada on July 30, 2015:

The plat, in 1 sheet, representing the dependent resurvey of Mineral Survey Nos. 3962 and 3971, in unsurveyed Township 5 South, Range 46 East, Mount Diablo Meridian, Nevada, under Group No. 946, was accepted July 29, 2015. This survey was executed to identify the boundaries of certain mineral surveys to the extent necessary to identify federal interest for eventual conveyance to the United States.

9. The Supplemental Plat of the following described lands was officially filed at the BLM Nevada State Office, Reno, Nevada on June 4, 2015: The supplemental plat, in 1 sheet, showing amended lottings in section 17, Township 19 South, Range 60 East, of the Mount Diablo Meridian, Nevada, under Group No. 947, was accepted June 3, 2015. This supplemental plat was prepared to meet certain administrative needs of the Bureau of Land Management.

10. The Supplemental Plat of the following described lands was officially filed at the BLM Nevada State Office, Reno, Nevada on June 25, 2015:

The supplemental plat, in 1 sheet, showing amended lottings in section 2, Township 12 North, Range 26 East, of the Mount Diablo Meridian, Nevada, under Group No. 951, was accepted June 22, 2015. This supplemental plat was executed to facilitate the conveyance of certain public land to the municipality of Yerington, Nevada, as authorized by Public Law 113-291.

11. The Supplemental Plat of the following described lands was officially filed at the BLM Nevada State Office, Reno, Nevada on June 25, 2015:

The supplemental plat, in 1 sheet, showing amended lottings in section 3, Township 12 North, Range 26 East, of the Mount Diablo Meridian, Nevada, under Group No. 951, was accepted June 22, 2015. This supplemental plat was executed to facilitate the conveyance of certain public land to the municipality of Yerington, Nevada, as authorized by Public Law 113-291.

12. The Supplemental Plat of the following described lands was officially filed at the BLM Nevada State Office, Reno, Nevada on June 25, 2015:

The supplemental plat, in 1 sheet, showing amended lottings in section 4, Township 12 North, Range 26 East, of the Mount Diablo Meridian, Nevada, under Group No. 951, was accepted June 22, 2015. This supplemental plat was executed to facilitate the conveyance of certain public land to the municipality of Yerington, Nevada, as authorized by Public Law 113-291.

13. The Supplemental Plat of the following described lands was officially filed at the BLM Nevada State Office, Reno, Nevada on June 25, 2015:

The supplemental plat, in 1 sheet, showing amended lottings in section 9, Township 12 North, Range 26 East, of the Mount Diablo Meridian, Nevada, under Group No. 951, was accepted June 22, 2015. This supplemental plat was executed to facilitate the conveyance of certain public land to the municipality of Yerington, Nevada, as authorized by Public Law 113-291.

14. The Supplemental Plat of the following described lands was officially filed at the BLM Nevada State Office, Reno, Nevada on June 25, 2015:

The supplemental plat, in 1 sheet, showing amended lottings in section 10, Township 12 North, Range 26 East, of the Mount Diablo Meridian, Nevada, under Group No. 951, was accepted June 22, 2015. This supplemental plat was executed to facilitate the conveyance of certain public land to the municipality of Yerington, Nevada, as authorized by Public Law 113-291.

15. The Supplemental Plat of the following described lands was officially filed at the BLM Nevada State Office, Reno, Nevada on June 25, 2015:

The supplemental plat, in 1 sheet, showing amended lottings in section 11, Township 12 North, Range 26 East, of the Mount Diablo Meridian, Nevada, under Group No. 951, was accepted June 22, 2015. This supplemental plat was executed to facilitate the conveyance of certain public land to the municipality of Yerington, Nevada, as authorized by Public Law 113-291.

16. The Supplemental Plat of the following described lands was officially filed at the BLM Nevada State Office, Reno, Nevada on August 11, 2015:

The supplemental plat, in 1 sheet, showing amended lottings in section 33, Township 13 North, Range 26 East, of the Mount Diablo Meridian, Nevada, under Group No. 953, was accepted August 11, 2015. This supplemental plat was executed to facilitate the conveyance of certain public land to the municipality of Yerington, Nevada, as authorized by Public Law 113-291.

The surveys and supplemental plats listed above are now the basic record for describing the lands for all authorized purposes. These records have been placed in the open files in the BLM Nevada State Office and are available to the public as a matter of information. Copies of the surveys and related field notes may be furnished to the public upon payment of the appropriate fees.

Dated: August 21, 2015.
Michael O. Harmening,
Chief Cadastral Surveyor, Nevada.

[FR Doc. 2015-21245 Filed 8-26-15; 8:45 am]

BILLING CODE 4310-HC-P